COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add a product and services to the Procurement List that will be furnished by nonprofit agencies employing persons who are blind or have other severe disabilities, and delete services previously furnished by such agencies.

COMMENTS MUST BE RECEIVED ON OR BEFORE: 8/7/2016.

ADDRESSES: Committee for Purchase From People Who Are Blind or Severely Disabled, 1401 S. Clark Street, Suite 715, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

The following product and services are proposed for addition to the Procurement List for production by the nonprofit agencies listed:

Product

NSN(s)—Product Name(s): MR 753—Pillow, Jumbo.

Mandatory for: Military commissaries and exchanges in accordance with the Code of Federal Regulations, Chapter 51, 51-6.4.

Mandatory Source(s) of Supply: Georgia Industries for the Blind, Bainbridge, GA.

Contracting Activity: Defense Commissary Agency.

Distribution: C-List.

Services

Service Type: Mailroom Operation Service.

Mandatory for: US Air Force, Postal Service Center, Tyndall Air Force Base, Tyndall Air Force, FL.

Mandatory Source(s) of Supply: VersAbility, Resources, Inc., Hampton, VA.

Contracting Activity: Dept of the Air Force, FA4890 ACC AMIC, Newport News, VA.

Service Type: Janitorial Service.

Mandatory for: USDA APHIS, Luis Munoz Marin Airport, Terminal A & D, Buildng C-2, Warehouse #3, 150 Central Sector, Carolina, PR.

Mandatory Source(s) of Supply: The Corporate Source, Inc., New York, NY.

Contracting Activity: Dept of Agriculture, USDA APHIS MRPBS, Animal and Plant Health Inspection Service, Minneapolis, MN.

Deletions

The following services are proposed for deletion from the Procurement List:

Services

Service Type: Order Processing Service.

Mandatory for: McGuire Air Force Base, McGuire AFB, NJ.

Mandatory Source(s) of Supply: Bestwork Industries for the Blind, Inc., Cherry Hill, NJ.

Contracting Activity: Dept of the Air Force, FA7014 AFDW PK.

Service Type: Operation of Postal Service Center Service.

Mandatory for: Luke Air Force Base, Glendale, AZ.

Mandatory Source(s) of Supply: Arizona Industries for the Blind, Phoenix, AZ.

Contracting Activity: Dept of the Air Force, FA7014 AFDW PK.

Service Type: Telephone Switchboard Operations Service.

Mandatory for: Barksdale Air Force Base, Shreveport, LA.

Mandatory Source(s) of Supply: Louisiana Association for the Blind, Shreveport, LA.

Contracting Activity: Dept of the Air Force, FA7014 AFDW PK.

Service Type: Embroidery of USAF Service/Name Tapes & Emboss of Plastic Name Tags.

Mandatory for: Lackland Air Force Base, TX.

Mandatory Source(s) of Supply: Delaware Division for the Visually Impaired, New Castle, DE.

Contracting Activity: Dept of the Air Force, FA7014 AFDW PK.

Barry S. Lineback,
Director, Business Operations.

[FR Doc. 2016-16229 Filed 7-7-16; 8:45 am]

BILLING CODE 6353-01-P